DEPARTMENT OF COMMERCE

International Trade Administration

[A-520-807]

Circular Welded Carbon-Quality Steel Pipe From the United Arab Emirates: Amended Final Results of Antidumping Duty Administrative Review; 2016-2017

AGENCY: Enforcement and Compliance, International Trade Administration, Department of Commerce.

SUMMARY: The Department of Commerce (Commerce) is amending the final results of the administrative review of the antidumping duty (AD) order on circular welded carbon-quality steel pipe (CWP) from the United Arab Emirates (UAE) to correct a ministerial error.

DATES: Applicable October 10, 2019.

FOR FURTHER INFORMATION CONTACT: Manuel Rey or Whitley Herndon, AD/CVD Operations, Office II, Enforcement and Compliance, International Trade Administration, U.S. Department of Commerce, 1401 Constitution Avenue NW, Washington, DC 20230; telephone: (202) 482-5518 or (202) 482-6274, respectively.

SUPPLEMENTARY INFORMATION:

Background

On August 27, 2019, Commerce published the Final Results of the 2016-2017 administrative review of CWP from the UAE in the Federal Register.¹ On August 28, 2019, Ajmal Steel Tubes & Pipes Ind. L.L.C./Noble Steel Industries L.L.C. (collectively, Ajmal Steel), one of two companies selected for individual examination in this administrative review, alleged the existence of a ministerial error in Commerce's Final Results.²

¹ See Circular Welded Carbon-Quality Steel Pipe from the United Arab Emirates: Final Results of Antidumping Duty Administrative Review; 2016-2017, 84 FR 44845 (August 27, 2019) (Final Results), and accompanying Issues and Decision Memorandum (IDM).

² See Ajmal Steel's Letter, “Antidumping Duty Review of Circular Welded Carbon-Quality Steel Pipe from the United Arab Emirates; Correction of Clerical or Ministerial Errors,” dated August 28, 2019.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review. . . .”

³ See 19 CFR 351.224(f).

Ministerial Errors

Commerce committed an inadvertent error within the meaning of section 735(e) of the Act and 19 CFR 351.224(f) by failing to correct an alignment error in certain data fields in Ajmal Steel's Excel database that should have been apparent in our review, prior to converting this database to SAS. Accordingly, we determine, in accordance with section 751(h) of the Act and 19 CFR 351.224(f), that we made a ministerial error in the Final Results. Pursuant to 19 CFR 351.224(e), we are amending the Final Results to correct this error. This correction results in a change to Ajmal Steel's weighted-average dumping margin, and also changes the rate calculated for the non-individually-examined companies. For a detailed discussion of the ministerial error allegation, as well as Commerce's analysis, see Ministerial Error Memorandum.⁴

⁴ See Memorandum, “Circular Welded Carbon-Quality Steel Pipe from the United Arab Emirates; 2016-2017 Antidumping Duty Administrative Review—Ministerial Error Allegation,” dated concurrently with this notice (Ministerial Error Memorandum).

Amended Final Results of the Review

We are assigning the following weighted-average dumping margins to the firms listed below for the period June 8, 2016 through November 30, 2017:

Exporter/producer | Weighted- average dumping margin (percent)
Ajmal Steel | 1.83
Universal Tube and Plastic Industries, Ltd./THL Tube and Pipe Industries LLC (TTP)/KHK Scaffolding and Formwork LLC (collectively, Universal) | 1.65

Review-Specific Average Rate Applicable to the Following Companies: ⁵

⁵ This rate is based on the simple-average of the margins calculated for those companies selected for individual review. See Memorandum, “Calculation of the Non-Reviewed Companies' Rate for the Amended Final Results in the Less-Than-Fair-Value Administrative Review of Circular Welded Carbon-Quality Steel Pipe from the UAE,” dated concurrently with this notice.

Exporter/producer | Weighted- average dumping margin (percent)
Abu Dhabi Metal Pipes and Profiles Industries Complex | 1.74
Ferrolab LLC | 1.74
Global Steel Industries | 1.74
Lamprell | 1.74
Link Middle East Ltd | 1.74
PSL FZE | 1.74
Three Star Metal Ind LLC | 1.74

Disclosure

We intend to disclose the calculations performed for these amended final results in accordance with 19 CFR 351.224(b).

Antidumping Duty Assessment

Pursuant to section 751(a)(2)(C) of the Act, and 19 CFR 351.212(b)(1), Commerce has determined, and U.S. Customs and Border Protection (CBP) shall assess, antidumping duties on all appropriate entries of subject merchandise in accordance with the amended final results of this review.

Pursuant to 19 CFR 351.212(b)(1), because Ajmal Steel and Universal reported the entered value of their U.S. sales, we calculated importer-specific ad valorem duty assessment rates based on the ratio of the total amount of dumping calculated for the examined sales to the total entered value of the sales for which entered value was reported. Where an importer-specific rate is zero or de minimis within the meaning of 19 CFR 351.106(c)(1), we will instruct CBP to liquidate the appropriate entries without regard to antidumping duties. We intend to instruct CBP to take into account the “provisional measures deposit cap,” in accordance with 19 CFR 351.212(d).

For the companies which were not selected for individual review, we will assign an assessment rate based on the average ⁶ of the cash deposit rates calculated for Ajmal Steel and Universal. The amended final results of this review shall be the basis for the assessment of antidumping duties on entries of merchandise covered by the amended final results of this review and for future deposits of estimated duties, where applicable.⁷

⁶ This rate was calculated as discussed in a footnote, above.

⁷ See section 751(a)(2)(C) of the Act.

We intend to issue liquidation instructions for Ajmal Steel and the companies covered by the non-reviewed companies' rate to CBP 15 days after publication of these amended final results of this administrative review.

Cash Deposit Requirements

The following cash deposit requirements will be effective retroactively for all shipments of the subject merchandise entered, or withdrawn from warehouse, for consumption on or after August 27, 2019, the date of publication date of the Final Results of this administrative review, as provided by section 751(a)(2)(C) of the Act: (1) The cash deposit rate for each specific company listed above will be that established in the amended final results; (2) for previously reviewed or investigated companies, including those for which Commerce may have determined had no shipments during the POR, the cash deposit will continue to be the company-specific rate published for the most recently completed segment of this proceeding in which the company participated; (3) if the exporter is not a firm covered in this or an earlier review, or the original less-than-fair-value (LTFV) investigation, but the manufacturer is, the cash deposit rate will be the rate established for the most recently-completed segment of this proceeding for the manufacturer of the merchandise; and (4) if neither the exporter nor the manufacturer is a firm covered in this or any previously completed segment of this proceeding, then the cash deposit rate will be the all-others rate of 5.95 percent established in the LTFV investigation.⁸ These deposit requirements, when imposed, shall remain in effect until further notice.

⁸ See Circular Welded Carbon-Quality Steel Pipe from the Sultanate of Oman, Pakistan, and the United Arab Emirates: Amended Final Affirmative Antidumping Duty Determination and Antidumping Duty Orders, 81 FR 91906 (December 19, 2016).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order (APO)

This notice serves as the only reminder to parties subject to APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

These amended final results and notice are issued and published in accordance with sections 751(h) and 777(i) of the Act and 19 CFR 351.224(e).

Dated: September 30, 2019.
Jeffrey I. Kessler,
Assistant Secretary for Enforcement and Compliance.

[FR Doc. 2019-22204 Filed 10-9-19; 8:45 am]

BILLING CODE 3510-DS-P